DEPARTMENT OF LABOR

Employment Standards Administration

Proposed Extension of the Approval of Information Collection Requirements

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning its proposal to extend OMB approval of the following information collection: FECA Medical Report Forms (CA-16, CA-17, CA-20, CA-1087, CA-1090, CA-1303, CA-1305, CA-1331, CA-1332, QCM Letters, OWCP-5a, OWCP-5b, and OWCP-5c) and Claim for Compensation (CA-7). A copy of the proposed information collection request can be obtained by contacting the office listed below in the addresses section of this Notice.

DATES: Written comments must be submitted to the office listed in the addresses section below on or before June 16, 2008.

ADDRESSES: Mr. Steven Andoseh, U.S. Department of Labor, 200 Constitution Ave., NW., Room S-3201, Washington, DC 20210, telephone (202) 693-0373, fax (202) 693-1451, E-mail andoseh.steven@dol.gov. Please use only one method of transmission for comments (mail, fax, or E-mail).

SUPPLEMENTARY INFORMATION: I. Background: The Office of Workers' Compensation Programs (OWCP) administers the Federal Employees' Compensation Act (FECA), (5 U.S.C. 8101, et seq.), which provides for the payment of benefits for wage loss and/or permanent impairment arising from work related injury or disease to a scheduled member. The act outlines the elements of pay to be included in an individual's pay rate, and sets forth various other criteria for determining eligibility and amount of benefits, including augmentation of basic compensation for individuals with dependents. The act also requires reports of any earnings during a period for which compensation is claimed, prohibits concurrent receipt of FECA benefits and benefits from the Office of Personnel Management (OPM) and certain Veterans Administration (VA) benefits, and mandates that money collected from a liable third party found responsible for the injury for which compensation has been paid be applied to benefits paid or payable. Medical evidence is required to show that the claimant's disability is causally related to the claimant's federal employment. As each claim ages, there is a continuing need for updated information to support continuing benefits. The FECA Medical Report Forms collect medical information from physicians that are necessary to determine entitlement to benefits under the act. The CA-7, Claim for Compensation requests information from the injured worker regarding pay rate, dependents, earnings, dual benefits, and third party information. This information collection is currently approved for use through October 31, 2008.

II. Review Focus: The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions: The Department of Labor seeks the approval for the extension of this currently approved information collection in order to carry out its statutory responsibility to compensate injured employees under the provisions of the Act.

Type of Review: Extension.

Agency: Employment Standards Administration.

Title: FECA Medical Reports, Claim for Compensation.

OMB Number: 1215-0103.

Agency Numbers: CA-7, CA-16, CA-17, CA-20, CA-1087, CA-1090, CA-1303, CA-1305, CA-1331, CA-1332, QCM Letters, OWCP-5a, OWCP-5b, and OWCP-5c.

Affected Public: Individuals or Households; Business or other for-profit; Federal Government.

Form No. | Number of responses | Avg. time per response (hrs) | Burden hours
Burden Estimates:
CA-7 | 400 | .22 | 87
Medical Report Forms
CA-16 | 124,800 | .08 | 9,984
CA-17 | 57,600 | .08 | 4,608
CA-20 | 76,800 | .08 | 6,144
CA-1332 | 480 | .50 | 240
CA-1090 | 300 | .17 | 51
CA-1303 | 3,200 | .33 | 1,056
CA-1305 | 10 | .33 | 3
CA-1331/CA-1087 | 250 | .08 | 20
QCM-Letters | 1,500 | .08 | 120
OWCP-5a | 7,200 | .25 | 1,800
OWCP-5b | 1,500 | .25 | 375
OWCP-5c | 17,000 | .25 | 4,250
Total: Medical | 290,640 | .09858 | 28,651
Total | 291,040 | .09874 | 28,738

Total Respondents: 291,040.

Total Annual Responses: 291,040.

Average Time per Response: 5.92 minutes.

Estimated Total Burden Hours: 28,738.

Frequency: As Needed.

Total Burden Cost (capital/startup): $0.

Total Burden Cost (operating/maintenance): $128,058.

Comments submitted in response to this notice will be summarized and/or included in the request for Office of Management and Budget approval of the information collection request; they will also become a matter of public record.

Dated: April 10, 2008.
Hazel M. Bell,
Acting Chief, Branch of Management Review and Internal Control, Division of Financial Management, Office of Management, Administration and Planning, Employment Standards Administration.

[FR Doc. E8-8114 Filed 4-15-08; 8:45 am]

BILLING CODE 4510-CH-P